DEPARTMENT OF THE TREASURY

Customs Service

Application for Recordation of Trade Name: “Red Bull North America, Inc.”; Correction

ACTION: Notice of application for recordation of trade name; correction.

SUMMARY: In a document published in the Federal Register on June 14, 2001, Customs announced that an application has been filed for recordation of the trade name “Red Bull North America, Inc.” under section 42 of the Act of July 5, 1946, as amended (15 U.S.C. 1124). There was an error in that document regarding the trade name for which the application for recordation was filed. This document corrects that error.

Correction of Publication

In the Federal Register issue of June 14, 2001, in FR Document 01-14987, on page 32414, in the second column, correct the first sentence of the Summary paragraph to read as follows:

“Application has been filed pursuant to section 133.12, Customs Regulations (19 CFR 133.12), for the recordation under section 42 of the Act of July 5, 1946, as amended (15 U.S.C. 1124), of the trade name ‘Red Bull North America, Inc.’ ”

Dated: July 6, 2001.
Joanne Roman Stump,
Chief, Intellectual Property Rights Branch.

[FR Doc. 01-17489 Filed 7-11-01; 8:45 am]

BILLING CODE 4820-02-P